DEPARTMENT OF COMMERCE

International Trade Administration

[A-570-836]

Glycine From the People's Republic of China: Notice of Preliminary Results of Antidumping Duty Changed Circumstances Review

AGENCY: Enforcement and Compliance, International Trade Administration, Department of Commerce.

SUMMARY: The U.S. Department of Commerce (Commerce) is issuing the preliminary results of the changed circumstances review (CCR) of the antidumping duty order on glycine from the People's Republic of China (China). Commerce preliminarily finds that Salvi Chemical Industries Limited (Salvi) is eligible to participate in an established certification process. We invite interested parties to comment on these preliminary results.

DATES: Applicable April 1, 2025.

FOR FURTHER INFORMATION CONTACT: Tyler Weinhold, AD/CVD Operations, Office VI, Enforcement and Compliance, International Trade Administration, U.S. Department of Commerce, 1401 Constitution Avenue NW, Washington, DC 20230; telephone: (202) 482-1121.

SUPPLEMENTARY INFORMATION:

Background

On March 29, 1995, Commerce published the China Order in the Federal Register.¹ On December 10, 2012, Commerce published an affirmative determination of circumvention of the Order, finding that glycine processed in India by Salvi using Chinese-origin inputs (e.g., crude or technical-grade glycine), and exported to the United States from India is circumventing the China Order.² Commerce affirmed its preliminary determination ³ that the processing of Chinese-origin technical-grade or crude glycine, including but not limited to AAA-97TE, ACAA-97TE, sodium glycinate and glycine slurry, is not substantially transformed into glycine of Indian-origin, and therefore such glycine remains within the scope of the China Order.⁴ In its Glycine China Circumvention Final, Commerce instituted a countrywide certification mechanism for all imports of glycine from India, to ensure that the inquiry merchandise does not enter the United States as glycine from India.⁵ Commerce adopted the certification requirement to ensure that merchandise meeting this scope clarification is properly identified as merchandise subject to the China Order.⁶ Commerce applied this certification to all imports of glycine from India, with the exception of certain companies, including Salvi, because Commerce determined that glycine produced by Salvi was circumventing the China Order, and therefore subject to the rates established for glycine from China.⁷

¹ See Antidumping Duty Order: Glycine from the People's Republic of China, 60 FR 16116 (March 29, 1995) (China Order).

² See Glycine from the People's Republic of China: Final Partial Affirmative Determination of Circumvention of the Antidumping Duty Order, 77 FR at 73426, 73427 (December 10, 2012) (Glycine China Circumvention Final).

³ See Glycine from the People's Republic of China: Preliminary Partial Affirmative Determination of Circumvention of the Antidumping Duty Order and Initiation of Scope Inquiry, 77 FR 21533, 21535 (April 10, 2012) (Glycine China Circumvention Prelim).

⁴ See Glycine China Circumvention Final.

⁵ Id., 77 FR at 73426-27.

⁶ Id.

⁷ Id.

Salvi requested that Commerce conduct a CCR pursuant to section 751(b) of the Tariff Act of 1930, as amended, (the Act), and 19 CFR 351.216(b), asserting that Commerce: (1) should permit Salvi to participate in the certification process; (2) should determine that glycine produced by Salvi is not produced from Chinese-origin raw material; and, (3) should not subject Salvi's glycine to cash deposit requirements under the Glycine China Circumvention Final.⁸ Salvi claims that the raw materials it used to produce glycine in recent years ⁹ have been produced from non-glycine inputs which are outside the scope of the China Order, irrespective of origin.¹⁰ Moreover, Salvi claims that all of the raw materials it used to produce glycine in recent years have been procured from Indian sources.¹¹ Commerce initiated this CCR, pursuant to the Act and 19 CFR 351.216(d), upon finding that there is sufficient information to warrant a CCR.¹²

⁸ Id.

⁹ In Salvi's CCR Request, Salvi provided evidence relevant to fiscal years 2021-2021 and 2022-2023 to demonstrate the raw materials Salvi sourced to produce glycine sold during fiscal year 2022-2023 were solely sourced from Indian origin raw materials. See Salvi's Letter, “Request for Changed Circumstances Review,” dated April 10, 2024 (Salvi's CCR Request) at 6 and Exhibits 6-9; see also Salvi's Letter, “Response to Supplemental Questionnaire,” dated January 15, 2025 (Salvi 2SQR) at Exhibits 28 and 28.1 (showing Indian-produced, non-glycine inputs from suppliers in India).

¹⁰ See Salvi's CCR Request at 4-6.

¹¹ Id. at 6-8.

¹² See Glycine from the People's Republic of China: Initiation of Changed Circumstances Review, 89 FR 58104 (July 17, 2024).

We issued supplemental questionnaires to Salvi between November 2024 and January 2025,¹³ to which Salvi timely responded.¹⁴ Deer Park Glycine, LLC (DPG), a domestic glycine producer, submitted comments regarding Salvi's supplemental questionnaire responses in January and February 2025.¹⁵

¹³ See Commerce's Letters, “Supplemental Questionnaire,” dated November 14, 2024 (Salvi 1SQ); “Second Supplemental Questionnaire,” dated January 2, 2025 (Salvi 2SQ); and “Third Supplemental Questionnaire,” dated January 29, 2024 (Salvi 3SQ).

¹⁴ See Salvi's Letters, “Response to Supplemental Questionnaire,” dated December 19, 2024 (Salvi 1SQR); Salvi 2SQR; and “Response to Third Supplemental Questionnaire,” February 12, 2025 (Salvi 3SQR).

¹⁵ See Petitioner's Letter, “DPG Comments on Salvi Supplemental Questionnaire Response,” dated January 3, 2025; see also Petitioner's Letter, “DPG Comments on Salvi's January 15, 2025 Supplemental Questionnaire Response,” dated January 27, 2025; Petitioner's Letter, “DPG Comments on Salvi's January 31, 2025 Response to Petitioner Comments of January 27, 2025,” dated February 7, 2025; and Petitioner's Letter, “DPG Comments on Salvi's February 12, 2025 Response to Petitioner to the Department's 3rd Supplemental Questionnaire,” dated February 28, 2025.

Scope of the Order

The product covered by the Order is glycine, which is a free-flowing crystalline material, like salt or sugar. Glycine is produced at varying levels of purity and is used as a sweetener/taste enhancer, a buffering agent, reabsorbable amino acid, chemical intermediate, and a metal complexing agent. This order covers glycine of all purity levels. Glycine is currently classified under subheading 2922.49.4020 of the Harmonized Tariff Schedule of the United States (HTSUS).¹⁶ Although the HTSUS subheading is provided for convenience and customs purposes, the written description of the merchandise under the Order is dispositive.

¹⁶ In separate scope rulings, Commerce determined that: (a) D(-) Phenylglycine Ethyl Dane Salt is outside the scope of the Order and (b) Chinese glycine exported from India remains the same class or kind of merchandise as the China-origin glycine imported into India. See Notice of Scope Rulings and Anticircumvention Inquiries, 62 FR 62288 (November 21, 1997); see also Glycine China Circumvention Final.

Scope of the Final Circumvention Determination ¹⁷

¹⁷ See Glycine China Circumvention Final, 77 FR at 73426.

The product covered by Glycine China Circumvention Final was glycine, as described in the “Scope of the Order” section, above, which is exported from India, but processed using Chinese-origin inputs (e.g., crude or technical-grade glycine). The Glycine China Circumvention Final covers glycine produced by certain companies, including Salvi. Salvi has stated on the record that it also self-produced glycine from Indian-origin inputs. The focus of the Glycine China Circumvention Final was to determine whether glycine exported from India is: (1) produced from inputs manufactured in China; (2) processed by certain companies, including Salvi in India; and (3) then exported to the United States as Indian-origin glycine, constituting circumvention of the China Order under section 781(b) of the Act.

Analysis

Salvi claimed that it produced glycine during fiscal years 2021-2022 and 2022-2023 using only Indian-origin inputs, and has not exported glycine to the United States which was processed nor produced using Chinese-origin inputs (e.g., crude or technical-grade glycine).¹⁸ In order to determine whether Salvi's claims were accurate, and to determine whether Salvi has the ability to make such a determination, including maintaining sufficient records in the ordinary course of business, we requested information about Salvi's sales, any affiliated suppliers of glycine inputs, glycine production processes, and other business records with respect to its 2021-2022 and 2022-2023 fiscal years.¹⁹ We requested that Salvi identify all glycine sales (including export and domestic sales) and all of the purchases of inputs used to produce the subject glycine that it sold to all markets, on a sale-by-sale basis.²⁰ We also requested that Salvi include inputs used to produce intermediate products that Salvi may have produced, and then further processed, before eventually selling the associated subject glycine finished products.²¹ In addition, we reviewed and reconciled Salvi's financial statements and information from Salvi's accounting systems to the reported domestic and import purchase and sales registers.²² Further, to confirm the overall accuracy of the information Salvi provided, we also requested documents related to specific sales and purchase transactions which we selected.²³ Salvi complied with our requests and provided the requested information.²⁴

¹⁸ See, e.g., Salvi's CCR Request at 4-6.

¹⁹ See Salvi 1SQ at 4-11; see also Salvi 2SQ at 4-6; and Salvi 3SQ at 4-5.

²⁰ Id.

²¹ See Salvi 1SQ at 4-5; see also Salvi 3SQ at 4.

²² See Salvi's CCR Request at 5-8, Exhibits 6-9, 11, and 12; see also Salvi 1SQR at 2-4, Exhibits 13, 13.1, 14.1, 14.2, 14.3, 21, 21.1, and 22; Salvi 2SQR at 2-5, Exhibits 28, 28.1, 29, 30, 30.1, 32 and 34; and Salvi 3SQR at 5, Exhibits 35 and 35.1.

²³ See Salvi's CCR Request at 6 and Exhibit 10; see also Salvi 1SQR at 7-9, Exhibits 21, 21.2, and 22; Salvi 2SQ at 5-6, and Exhibit 33; and Salvi 3SQR at 3 and Exhibit 36.

²⁴ See Salvi 1SQR at 1-13; see also Salvi 2SQR at 2-8; and Salvi 3SQR at 1-4.

Based on the information provided by Salvi, we preliminarily find that Salvi has demonstrated that it has eliminated the use of Chinese inputs from its production process, and that Salvi records, and is able to identify, the origin of the inputs used to produce glycine. Further, Salvi is able to track the origin of these inputs through its production processes of glycine and track it to the final glycine it sells.²⁵ Accordingly, because of the elimination of the use of Chinese inputs in its production process, not solely Salvi's ability to track the origin of its inputs through to non-U.S. sales, we preliminarily determine that Salvi is eligible to participate in the certification process established in Glycine China Circumvention Final.

²⁵ See Salvi's CCR Request at 5-8, Exhibits 6-12; see also Salvi 1SQR at 2-13, Exhibits 13-14.3, 21-22; Salvi 2SQR at 2-8, Exhibits 28-30, 30.1, 32-34; and Salvi 3SQR at 1-5, Exhibits 35 and 35.1.

If these preliminary results are adopted in the final results, effective on the publication date of our final results, Salvi, its downstream exporters, and its importers will be eligible, where appropriate, to certify that glycine produced by Salvi in India and exported from India was not processed from Chinese-origin glycine (e.g., crude or technical-grade glycine) or other Chinese-origin raw material inputs. Glycine entering the United States with such certification will not be subject to suspension of liquidation and a requirement to post cash deposits of estimated antidumping duties associated with the China Order. However, glycine entering the United States with such certification will be subject to suspension of liquidation and cash deposits related to the India Order.²⁶ The draft certification language is attached as an appendix to this notice. Interested parties are invited to comment on the draft certification language in their case briefs.

²⁶ See Glycine from India and Japan: Amended Final Affirmative Antidumping Duty Determination and Antidumping Duty Orders, 84 FR 29170 (June 21, 2019) (India Order).

Certification Requirements

In accordance with 19 CFR 351.225(l)(3), the notice of suspension of liquidation and of the certification requirements for entries of glycine produced in India using Chinese-origin glycine inputs (e.g., crude or technical-grade glycine) or other Chinese-origin raw material inputs occurred with the publication of the Glycine China Circumvention Final.²⁷ If the final results of this CCR remain unchanged from the preliminary results, glycine produced by Salvi in India using non-glycine inputs or using non-Chinese-origin inputs (e.g., crude or technical-grade glycine) and subsequently exported to in the United States, will no longer be subject to the China Order, as the subject glycine sourced and produced by Salvi in India is of Indian origin. However, imports of such merchandise will remain subject to the certification requirements, and cash deposits applicable to glycine from China may be required if the certification requirements are not satisfied. Accordingly, if an importer enters glycine produced by Salvi in India, and claims that the subject glycine was produced in India using inputs of non-Chinese-origin, in order not to be subject to cash deposit requirements the importer and exporter are required to meet the certification and documentation requirements described in the certification.²⁸ Where no certification is provided for an entry of subject glycine produced by Salvi in India and exported from India to the United States, the China Order will apply to that entry and Commerce intends to instruct CBP to collect cash deposits of estimated antidumping duties equal to the cash deposit rates established for entries of subject merchandise from China.²⁹

²⁷ See Glycine China Circumvention Final, 77 FR at 73426; see also U.S. Customs and Border Protection (CBP) Message 2353309, “Final Affirmative Determination of Circumvention of the Antidumping Duty Order on Glycine from the People's Republic of China (A-570-836/A-533-975),” dated December 18, 2012 (CBP Message 2353309); and CBP Message 2270302, “Preliminary Scope Determination Antidumping Duty Order on Glycine from the People's Republic of China (China) that is Processed in India (A-570-836 and A-533-975),” dated September 26, 2012 (CBP Message 2270302).

²⁸ See Glycine China Circumvention Final, 77 FR at 73426 at “Scope Ruling;” see also CBP Message number 2270302, dated September 29, 2012.

²⁹ See Glycine China Circumvention Final, 77 FR at 73426-27; see also Glycine China Circumvention Prelim, 77 FR at 21533; CBP Message 2270302; CBP Message 2353309; and China Order, 60 FR at 16116.

For shipments and/or entry summaries made on or after the date of publication of the initiation of the CCR through 30 days after the date of publication of the final results of this CCR for which certifications are required, importers and exporters should complete the required certification within 45 days after the publication of the final results of this CCR in the Federal Register. Accordingly, where appropriate, the relevant item in the certification should be modified to reflect that the certification was completed within the time frame specified above. For such entries/shipments, importers and exporters each have the option to complete a blanket certification covering multiple entries/shipments, individual certifications for each entry/shipment, or a combination thereof. For shipments and/or entries made on or after 31 days after the date of publication of the final results of this CCR in the Federal Register, for which certifications are required, importers should complete the required certification at or prior to the date of entry summary, and exporters should complete the required certification and provide it to the importer at or prior to the date of shipment.

Public Comment

Pursuant to 19 CFR 351.309(c)(1)(ii), interested parties may submit case briefs to Commerce no later than seven days after the publication of this notice. Rebuttal briefs, limited to issues raised in case briefs, may be filed not later than five days after the date for filing case briefs.³⁰ All comments are to be filed electronically using Antidumping and Countervailing Duty Centralized Electronic Service System (ACCESS). An electronically filed document must be received successfully in its entirety by ACCESS by 5:00 p.m. Eastern Time on the established deadline.³¹

³⁰ See 19 CFR 351.309(d).

³¹ See 19 CFR 351.303(b).

As provided under 19 CFR 351.309(c)(2) and (d)(2), in prior proceedings we have encouraged interested parties to provide an executive summary of their brief that should be limited to five pages total, including footnotes. In this CCR, we instead request that interested parties provide at the beginning of their briefs a public, executive summary for each issue raised in their briefs.³² Further, we request that interested parties limit their executive summary of each issue to no more than 450 words, not including citations. We intend to use the executive summaries as the basis of the comment summaries included in the issues and decision memorandum that will accompany the final results in this CCR. We request that the interested parties include footnotes for relevant citations in the executive summary of each issue. Note that Commerce has amended certain of its requirements pertaining to the service of documents in 19 CFR 351.303(f).

³² We use the term “issue” here to describe an argument that Commerce would normally address in a comment of the Issues and Decision Memorandum.

Pursuant to 19 CFR 351.310(c), interested parties who wish to request a hearing must submit a written request to the Assistant Secretary for Enforcement and Compliance, filed electronically via ACCESS. Requests should contain: (1) the party's name, address, and telephone number; (2) the number of participants; and (3) a list of the issues to be discussed. Issues raised in the hearing will be limited to those raised in the respective case briefs. An electronically filed hearing request must be received successfully in its entirety by Commerce's electronic record system, ACCESS, by 5:00 p.m. Eastern Time within seven days after the date of publication of this notice. Oral presentations at the hearing will be limited to issues raised in the briefs. If a request for a hearing is made, parties will be notified of the time and date for the hearing, in accordance with 19 CFR 351.310(d).

Consistent with 19 CFR 351.216(e), we intend to issue the final results of this CCR no later than 270 days after the date on which these reviews were initiated, or within 45 days after the publication of the preliminary results if all parties in this CCR agree to our preliminary results. This notice is published in accordance with sections 751(b)(1) and 777(i) of the Act and 19 CFR 351.216(b), 351.221(b) and 351.221(c)(3).

Notifications to Interested Parties

We are issuing and publishing this notice of preliminary results in accordance with sections 751(b)(1) and 777(i) of the Act, 19 CFR 351.216, and 19 CFR 351.221(c)(3)(i).

Dated: March 25, 2025.
Christopher Abbott,
Deputy Assistant Secretary for Policy and Negotiations, performing the non-exclusive functions and duties of the Assistant Secretary for Enforcement and Compliance.

Appendix—Certification

Importer Certification

I hereby certify that:

A. My name is {IMPORTING COMPANY OFFICIAL'S NAME} and I am an official of {IMPORTING COMPANY}, located at {ADDRESS OF IMPORTING COMPANY}.

B. I have direct personal knowledge of the facts regarding the importation into the Customs territory of the United States of the glycine (e.g., crude or technical-grade glycine) in India that entered under entry summary number(s), identified below, and are covered by this certification. “Direct personal knowledge” refers to facts the certifying party is expected to have in its own records. For example, the importer should have direct personal knowledge of the importation of PRODUCT, including the exporter's and/or foreign seller's identity and location.

C. If the importer is acting on behalf of the first U.S. customer, include the following sentence as paragraph C of this certification:

The glycine (e.g., crude or technical-grade glycine) covered by this certification was imported by {IMPORTING COMPANY} on behalf of {U.S. CUSTOMER}, located at {ADDRESS OF U.S. CUSTOMER}.

If the importer is not acting on behalf of the first U.S. customer, include the following sentence as paragraph C of this certification:

{NAME OF IMPORTING COMPANY} is not acting on behalf of the first U.S. customer.

D. The glycine e.g., crude or technical-grade glycine covered by this certification were shipped to {NAME OF PARTY IN THE UNITED STATES TO WHOM THE MERCHANDISE WAS FIRST SHIPPED}, located at {U.S. ADDRESS TO WHICH MERCHANDISE WAS SHIPPED}.

E. I have personal knowledge of the facts regarding the production of the imported products covered by this certification. “Personal knowledge” includes facts obtained from another party, (e.g., correspondence received by the importer (or exporter) from the producer regarding the source of the inputs used to produce the imported products).

F. This certification applies to the following entries (repeat this block as many times as necessary):

Entry Summary #:

Entry Summary Line Item #:

Foreign Seller:

Foreign Seller's Address:

Foreign Seller's Invoice #:

Foreign Seller's Invoice Line Item #:

Country of Origin of glycine (e.g., crude or technical-grade glycine) and non-glycine inputs to produce glycine:

Producer:

Producer's Address:

G. The glycine (e.g., crude or technical-grade glycine) covered by this certification does not contain glycine nor non-glycine inputs produced in the People's Republic of China (China) or of Chinese origin.

H. I understand that {IMPORTING COMPANY} is required to maintain a copy of this certification and sufficient documentation supporting this certification (i.e., documents maintained in the normal course of business, or documents obtained by the certifying party, for example, laboratory reports, certificates of origin, product data sheets, mill test reports, productions records, purchase invoices, certificate of origin, etc.) until the later of (1) the date that is five years after the latest entry date of the entries covered by the certification or (2) the date that is three years after the conclusion of any litigation in the United States courts regarding such entries.

I. I understand that {IMPORTING COMPANY} is required to maintain a copy of the exporter's certification (attesting to the production and/or exportation of the imported merchandise identified above), and any supporting documentation provided to the importer by the exporter, until the later of (1) the date that is five years after the latest entry date of the entries covered by the certification or (2) the date that is three years after the conclusion of any litigation in United States courts regarding such entries.

J. I understand that {IMPORTING COMPANY}is required to provide U.S. Customs and Border Protection (CBP) and/or the U.S. Department of Commerce (Commerce) with the importer certification, and any supporting documentation, and a copy of the exporter's certification, and any supporting documentation provided to the importer by the exporter, upon request of either agency.

K. I understand that the claims made herein, and the substantiating documentation, are subject to verification by CBP and/or Commerce.

L. I understand that failure to maintain the required certification and supporting documentation, or failure to substantiate the claims made herein, or not allowing CBP and/or Commerce to verify the claims made herein, may result in a de facto determination that all entries to which this certification applies are within the scope of the ANTIDUMPING DUTY (AD) ORDERS on glycine (e.g., crude or technical-grade glycine) from China. I understand that such finding will result in:

(i) suspension of liquidation of all unliquidated entries (and entries for which liquidation has not become final) for which these requirements were not met;

(ii) the importer being required to post the ANTIDUMPING duty cash deposits determined by Commerce; and

(iii) the importer no longer being allowed to participate in the certification process.

M. I understand that agents of the importer, such as brokers, are not permitted to make this certification.

N. This certification was completed by the time of filing the entry summary or within 45 days of the date on which Commerce published notice of its final changed circumstances review findings in the Federal Register.

O. I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

Exporter Certification

The party that made the sale to the United States should fill out the exporter certification.

I hereby certify that:

A. My name is {COMPANY OFFICIAL'S NAME} and I am an official of {NAME OF FOREIGN COMPANY THAT MADE THE SALE TO THE UNITED STATES}, located at {ADDRESS OF FOREIGN COMPANY THAT MADE THE SALE TO THE UNITED STATES}.

B. I have direct personal knowledge of the facts regarding the production and exportation of the glycine (e.g., crude or technical-grade glycine) for which sales are identified below. “Direct personal knowledge” refers to facts the certifying party is expected to have in its own records. For example, an exporter should have direct personal knowledge of the producer's identity and location.

C. The glycine (e.g., crude or technical-grade glycine) covered by this certification were shipped to {NAME OF PARTY IN THE UNITED STATES TO WHOM MERCHANDISE WAS FIRST SHIPPED}, located at {U.S. ADDRESS TO WHICH MERCHANDISE WAS SHIPPED}.

D. The glycine (e.g., crude or technical-grade glycine) covered by this certification does not contain glycine nor non-glycine inputs produced in the People's Republic of China (China), regardless of whether sourced directly from a Chinese producer or from a downstream seller.

E. This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer Name:

Producer's Address:

Producer's Invoice # to Foreign Seller: (State “N/A” if the foreign seller and the producer are the same party)

Name of Producer of glycine (technical glycine, etc.) and non-glycine inputs to produce glycine: (State “N/A” if the producer did not use glycine (technical glycine, etc.) and non-glycine inputs in the production of glycine)

Location (Country) of Producer of glycine (technical glycine, etc.) and non-glycine inputs: (State “N/A” if the producer did not use glycine (technical glycine, etc.) and non-glycine inputs in the production of glycine)

F. I understand that {NAME OF FOREIGN COMPANY THAT MADE THE SALE TO THE UNITED STATES} is required to maintain a copy of this certification and sufficient documentation supporting this certification (i.e., documents maintained in the normal course of business, or documents obtained by the certifying party, for example, laboratory reports, certificates of analysis, mill test reports, productions records, purchase invoices, certificate of origin, etc.) until the later of: (1) the date that is five years after the latest date of the entries covered by the certification; or (2) the date that is three years after the conclusion of any litigation in the United States courts regarding such entries.

G. I understand that {NAME OF FOREIGN COMPANY THAT MADE THE SALE TO THE UNITED STATES}is required to provide the U.S. importer with a copy of this certification and is required to provide U.S. Customs and Border Protection (CBP) and/or the U.S. Department of Commerce (Commerce) with this certification, and any supporting documents, upon request of either agency.

H. I understand that the claims made herein, and the substantiating documentation, are subject to verification by CBP and/or Commerce.

I. I understand that failure to maintain the required certification and supporting documentation, or failure to substantiate the claims made herein, or not allowing CBP and/or Commerce to verify the claims made herein, may result in a de facto determination that all sales to which this certification applies are within the scope of the ANTIDUMPING DUTY orders on glycine (e.g., crude or technical-grade glycine) from China. I understand that such a finding will result in:

(i) suspension of all unliquidated entries (and entries for which liquidation has not become final) for which these requirements were not met;

(ii) the importer being required to post the ANTIDUMPING DUTY cash deposits determined by Commerce; and

(iii) the seller/exporter no longer being allowed to participate in the certification process.

J. I understand that agents of the seller/exporter, such as freight forwarding companies or brokers, are not permitted to make this certification.

K. This certification was completed at time of shipment or within 45 days of the date on which Commerce published notice of its final changed circumstances review findings in the Federal Register.

L. I am aware that U.S. law (including, but not limited to, 18 U.S.C. 1001) imposes criminal sanctions on individuals who knowingly and willfully make material false statements to the U.S. government.

Signature

{NAME OF COMPANY OFFICIAL}

{TITLE OF COMPANY OFFICIAL}

{DATE}

[FR Doc. 2025-05513 Filed 3-31-25; 8:45 am]

BILLING CODE 3510-DS-P